DEPARTMENT OF ENERGY

Bright Tomorrow Lighting Competition (L Prize™)

AGENCY: Office of Energy Efficiency and Renewable Energy, Department of Energy.

ACTION: Notice of open entry period for performance competition.

SUMMARY: Pursuant to the Energy Independence and Security Act (EISA) of 2007; Subtitle E; Section 655, the National Energy Technology Laboratory, on behalf of the Office of Energy Efficiency and Renewable Energy's Building Technologies Program, intends to accept entrants to the Bright Tomorrow Lighting Competition (L Prize™). As outlined in the EISA, the DOE is accepting entries of Solid-State Lighting (SSL) products for full performance evaluation which have the technical potential to qualify for one of two entrant categories: 60-watt incandescent replacement and PAR type 38 halogen replacement lamps. The DOE anticipates release of the twenty-first century lamp category at a future date.

DATES: The entry period for the 60-watt incandescent and PAR 38 halogen replacement lamps is now open and will remain open until a qualified winner is announced.

ADDRESSES: National Energy Technology Laboratory, 3610 Collins Ferry Road, Morgantown, WV 26505.

FOR FURTHER INFORMATION CONTACT: C. Eddie Christy, National Energy Technology Laboratory, 3610 Collins Ferry Road, MS E-06, Morgantown, WV 26505, (304) 285-4604, E-mail: cchris@netl.doe.gov.

Detailed information regarding this competition is available at http://www.lightingprize.org.

SUPPLEMENTARY INFORMATION: The L Prize Competition is intended to encourage development and deployment of highly energy efficient solid-state lighting (SSL) products to replace several of the most common lighting products currently used in the United States, including 60-watt A19 incandescent and PAR 38 halogen lamps. To significantly impact the national market and lighting use, the SSL products must perform similarly to the lamps they are intended to replace in terms of color appearance, light output, light distribution, and lamp shape, size, form factor, appearance and operating environment. They must be reliable, available through normal market channels, and competitively priced.

Entries to each category will be evaluated against the respective performance criteria which are based upon the statutory requirements of the EISA. Full performance specification criteria and competition details can be found at http://www.lightingprize.org.

Subject to the availability of funding through appropriations, EISA provides for cash prizes for each prize category. Actual cash prizes are subject to the availability of appropriated funding from future appropriations and private funding contributions as authorized by the EISA. Funding for the cash prizes is not available during fiscal year 2008; however, due to the required duration of the evaluation process, the DOE does not anticipate declaring successful entrants prior to fiscal year 2009.

In addition to cash prizes, the L Prize authorization provides that the Secretary of Energy is to consult with the Administrator of General Services to develop federal purchase guidelines with the goal of conducting a Federal procurement of SSL products from the winner under the 60-watt incandescent and PAR 38 halogen categories.

Entrants must submit 2,000 commercially acceptable quality control units which meet the full criteria specified at http://www.lightingprize.org.

Issued in Morgantown, WV on June 10, 2008.
C. Edward Christy,
Division Director, Buildings & Industrial Technologies Division.

[FR Doc. E8-14202 Filed 6-23-08; 8:45 am]

BILLING CODE 6450-01-P